DEPARTMENT OF COMMERCE

National Oceanic and Atmospheric Administration

50 CFR Part 635

[I.D. 110200D]

Atlantic Highly Migratory Species Fisheries; Atlantic Bluefin Tuna Incidental Catch

AGENCY: National Marine Fisheries Service (NMFS), National Oceanic and Atmospheric Administration (NOAA), Commerce.

ACTION: Reopening of comment period.

SUMMARY: NMFS published, on November 17, 2000, an Advance Notice of Public Rulemaking (ANPR) and request for comments. NMFS intends to undertake rulemaking to reduce the level of Atlantic bluefin tuna (BFT) that is discarded dead by vessels in the pelagic longline fishery and requested comments on potential changes to the Atlantic tuna regulations that could reduce the level of dead discards of BFT including the adjustment of target catch requirements for landing incidental catch. The level of allowed discards needs to be reduced in order to decrease the waste of valuable bycatch. The comment period on the ANPR closed on December 14, 2000. NMFS is reopening the comment period to provide additional opportunity for comment.

DATES: Written comments on the ANPR must be received on or before January 16, 2001.

ADDRESSES: Written comments should be addressed to Christopher Rogers, Acting Chief, Highly Migratory Species Management Division (F/SF1), National Marine Fisheries Service, 1315 East-West Highway, Silver Spring, MD 20910.

FOR FURTHER INFORMATION CONTACT: Brad McHale or Pat Scida, 978-281-9260.

SUPPLEMENTARY INFORMATION: A complete description of the measures and the purpose and need for the proposed action is contained in the ANPR, published November 17, 2000 (65 FR 69492) and is not repeated here. Copies of the ANPR may be obtained by calling (see FOR FURTHER INFORMATION CONTACT).

NMFS requests comments on possible changes to the BFT landings allowances as outlined above or on alternative means of reducing dead discards of BFT in the pelagic longline fisheries. Comments received by the due date will be considered in drafting any proposed changes to the Atlantic tuna regulations.

Authority: 16 U.S.C. 971 et seq., and 16 U.S.C. 1801 et seq.

Dated: December 15, 2000.
William T. Hogarth,
Deputy Assistant Administrator for Fisheries, National Marine Fisheries Service.

[FR Doc. 00-32435 Filed 12-15-00; 4:55 pm]

BILLING CODE: 3510-22-S